DEPARTMENT OF COMMERCE

International Trade Administration

A-570-868

Folding Metal Tables and Chairs from the People's Republic of China: Final Results of Antidumping Duty Administrative Review

AGENCY: Import Administration, International Trade Administration, Department of Commerce.

SUMMARY: The Department of Commerce (“the Department”) published its preliminary results of administrative review of the antidumping duty order on folding metal tables and chairs (“FMTCs”) from the People's Republic of China (“PRC”) on July 10, 2006. The period of review (“POR”) is June 1, 2004, through May 31, 2005. We invited interested parties to comment on our preliminary results. Based on our analysis of the comments received, we have made changes to our margin calculations. Therefore, the final results differ from the preliminary results. The final dumping margins for this review are listed in the “Final Results of Review” section below.

EFFECTIVE DATE: December 11, 2006.

FOR FURTHER INFORMATION CONTACT: Laurel LaCivita or Matthew Quigley, AD/CVD Operations, Office 8, Import Administration, International Trade Administration, U.S. Department of Commerce, 14th Street and Constitution Avenue, NW, Washington, DC 20230; telephone (202) 482-4243 or (202) 482-4551, respectively.

Background

SUPPLEMENTARY INFORMATION: On July 10, 2006, the Department published its preliminary results. See Folding Metal Tables and Chairs from the People's Republic of China: Preliminary Results of Antidumping Duty Administrative Review 71 FR 38852 (July 10, 2006) (“Preliminary Results”). On July 26, 2006, Meco Corporation (“Meco”), the petitioner in the underlying investigation, requested an extension of the briefing schedule, and on August 4, 2006, the Department granted a two-week extension of the briefing schedule. On August 23, 2006, we received case briefs from Meco, New-Tec Integration Co., Ltd. (“New-Tec”), and Feili Group (Fujian) Co., Ltd. and Feili Furniture Development Limited Quanzhou City (collectively “Feili”). On August 30, 2006, Meco, New-Tec, and Feili submitted rebuttal briefs.

We have conducted this administrative review in accordance with section 751 of the Tariff Act of 1930, as amended (“the Act”), and 19 CFR 351.213.

Scope of Order

The products covered by this order consist of assembled and unassembled folding tables and folding chairs made primarily or exclusively from steel or other metal, as described below:

1) Assembled and unassembled folding tables made primarily or exclusively from steel or other metal (folding metal tables). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of the order regarding folding metal tables are the following:

a. Lawn furniture;

b. Trays commonly referred to as “TV trays”;

c. Side tables;

d. Child-sized tables;

e. Portable counter sets consisting of rectangular tables 36” high and matching stools; and,

f. Banquet tables. A banquet table is a rectangular table with a plastic or laminated wood table top approximately 28” to 36” wide by 48” to 96” long and with a set of folding legs at each end of the table. One set of legs is composed of two individual legs that are affixed together by one or more cross-braces using welds or fastening hardware. In contrast, folding metal tables have legs that mechanically fold independently of one another, and not as a set.

2) Assembled and unassembled folding chairs made primarily or exclusively from steel or other metal (folding metal chairs). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of the order regarding folding metal chairs are the following:

a. Folding metal chairs with a wooden back or seat, or both;

b. Lawn furniture;

c. Stools;

d. Chairs with arms; and

e. Child-sized chairs.

The subject merchandise is currently classifiable under subheadings 9401.71.0010, 9401.71.0030, 9401.79.0045, 9401.79.0050, 9403.20.0010, 9403.20.0030, 9403.70.8010, 9403.70.8020, and 9403.70.8030 of the Harmonized Tariff Schedule of the United States (“HTSUS”). Although the HTSUS subheadings are provided for convenience and customs purposes, the Department's written description of the merchandise is dispositive.

Analysis of Comments Received

All issues raised in the post-preliminary comments by parties in this review are addressed in the memorandum from Stephen J. Claeys, Deputy Assistant Secretary for Import Administration, to David M. Spooner, Assistant Secretary for Import Administration, “Issues and Decision Memorandum for the 2004-2005 Administrative Review of Folding Metal Tables and Chairs from the People's Republic of China,” (December 1, 2006) (“Issues and Decision Memorandum”), which is hereby adopted by this notice. A list of the issues that parties raised and to which we responded in the Issues and Decision Memorandum is attached to this notice as an appendix. The Issues and Decision Memorandum is a public document and is on file in the Central Records Unit (“CRU”) in room B-099 in the main Department building, and is also accessible on the Web at http://ia.ita.doc.gov/frn. The paper copy and electronic version of the memorandum are identical in content.

Changes Since the Preliminary Results

Based on our analysis of comments received, we have made changes in the margin calculations for Feili and New-Tec. See Issues and Decision Memorandum, at Comments 1-15.

• We revised the calculation of the surrogate value for water to use the correct inflation factor.

• We revised the calculation of the surrogate value for air freight in the zero-priced transactions to account for the total weight of each shipment.

• We excluded the zero-priced transactions for all of Feili's and New-Tec's customers that otherwise made no purchases of the same merchandise for consideration during the POR.

• We applied Feili's by-product offset to the cost of direct materials rather than to normal value.

Final Results of Review

We determine that the following dumping margins exist for the period June 1, 2004, through May 31, 2005:

Exporter/Manufacturer | Weighted-Average Margin Percentage
Feili* | 0.24
New-Tec * | 0.08
The PRC-Wide Entity** | 70.71
* These rates are de minimis.
** This includes Anji Jiu, Xiamen Zehui, and Yixiang.

Assessment Rates

The Department intends to issue assessment instructions to U.S. Customs and Border Protection (“CBP”) 15 days after the date of publication of these final results of review. In accordance with 19 CFR 351.212(b)(1), we have calculated importer-specific assessment rates for merchandise subject to this review. For Feili and New-Tec, we divided the total amount of antidumping duties calculated for each importer by the total entered value of the sales to each importer to calculate ad valorem assessment rates. Where the assessment rate is above de minimis, we will direct CBP to assess the resulting assessment rates against the entered customs values for the subject merchandise on each importer's entries during the POR.

Where an importer-specific ad valorem rate is zero or de minimis, we will order CBP to liquidate appropriate entries without regard to antidumping duties.

Cash Deposit Requirements

The following deposit requirements will be effective upon publication of this notice of final results of administrative review for all shipments of FMTCs from the PRC entered, or withdrawn from warehouse, for consumption on or after the date of publication, as provided by Section 751(a)(1) of the Act: (1) As the final weight-averaged margins for New-Tec and Feili are less than 0.5 percent and, therefore, de minimis, no cash deposit of estimated antidumping duties will be required; (2) for previously reviewed or investigated companies not listed above that have a separate rate, the cash deposit rate will continue to be the company-specific rate published for the most recent period; (3) the cash deposit rate for all other PRC exporters will be 70.71 percent, the current PRC-wide rate; and (4) the cash deposit rate for all non-PRC exporters will be the rate applicable to the PRC exporter that supplied that exporter. These deposit requirements, when imposed, shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing this determination and notice in accordance with sections 751(a)(1) and 777(i)(1) of the Act.

Dated: December 01, 2006.
David M. Spooner,
Assistant Secretary for Import Administration.

Appendix

List of Comments and Issues in the Decision Memorandum

Comment 1: Market-Economy Purchases

Comment 2: Verification

Comment 3: Common-Leg Tables

Comment 4: Inclusion of Zero-Priced Transactions in the Margin Analysis

Comment 5a: Treatment of Zero-Priced Transactions as Indirect Selling Expenses

Comment 5b: Calculation of Freight Expenses for Zero-Priced Transactions on a Shipment-Specific Basis

Comment 5c: Zero-Priced Merchandise That Was Not Subsequently Sold for Consideration

Comment 5d: Calculation of the Importer-Specific Assessment Rates

Comment 5e: Negative Values Derived from the Calculation of the Zero-Priced Transactions

Comment 6: Material Inputs Provided Free of Charge

Comment 7: Additional Charges for Origin Receiving Charge (“ORC”) and Automated Manifest System (“AMS”)

Comment 8: Scrap Offset

Comment 9: The Surrogate Value for Polyester Fabric with Down

Comment 10: The Inflation Factor for Water

Comment 11: Regression-Based Surrogate Value for Labor

[FR Doc. E6-21009 Filed 12-8-06; 8:45 am]

Billing Code: 3510-DS-S